DEPARTMENT OF DEFENSE

Office of the Secretary

Charter Amendment of Department of Defense Federal Advisory Committees

AGENCY: Department of Defense.

ACTION: Amend Federal Advisory Committee Charter.

SUMMARY: The Department of Defense (DoD) is publishing this notice to announce it is amending the charter for the Air University Board of Visitors.

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d). The amended charter and contact information for the Designated Federal Officer (DFO) can be obtained at http://www.facadatabase.gov/. The DoD is amending the charter for the Air University Board of Visitors (“the Board”) previously published in the Federal Register on April 14, 2016 (81 FR 22066). The Board's charter is being amended to update the estimated number of Board meetings to two per year. All other aspects of the Board's charter, as previously published, and amended as previously published in the Federal Register on July 27, 2016 (81 FR 49214), will apply to the Board.

Dated: September 16, 2016.
Aaron Siegel,
Alternate OSD Federal Register Liaison Officer, Department of Defense.

[FR Doc. 2016-22693 Filed 9-20-16; 8:45 am]

BILLING CODE 5001-06-P